DEPARTMENT OF DEFENSE

Department of the Navy

Notice of Performance Review Board Membership

AGENCY: Department of the Navy, DoD.

ACTION: Notice.

SUMMARY: Pursuant to 5 U.S.C. 4314(c)(4), the Department of the Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among individuals listed below:

Adams, P.C. Ms.

Arny, L.W. Mr.

Aviles, D.M., The Honorable

Balderson, W.M. Mr.

Barber, A.H. Mr.

Barnum, H.C. Mr.

Beland, R.W. Dr.

Betro, T.A. Mr.

Blair, A.K. Ms.

Blincoe, R.J. Mr.

Bourbeau, S.J. Ms.

Branch, E.B. Mr.

Brennan, A.M. Ms.

Brotherton, A.E. Ms.

Brown, M. Rdml

Cali, R.T. Mr.

Carlin, R. Mr.

Cohn, H.A. Mr.

Cook, C.E. Mr.

Creedon, C.G. Mr.

Davenport, D. Radm

Davis, L.C. Dr.

Decker, J. Ms.

Decker, M.H. Mr.

Deitchman, M. Mr.

Dunn, S.C. Mr.

Enewold, G. Radm

Erland, C. Ms.

Etter, D.M., The Honorable

Evans, G.L. Ms.

Evans, I.E. Ms.

Ferko, J.G. Mr.

Fischer, J. Dr.

Gardner, E.N. Ltgen

Giacchi, C.A. Mr.

Glas, R.A. Mr.

Gordon, F. Dr.

Greco, R., The Honorable

Griffes, M.D. Mr.

Goddard, C.H. Rdml

Godwin, A. Ms.

Goodhart, J.C. Mr.

Guard, H. Mr.

Hagedorn, G.D. Mr.

Hamilton, C. Radm

Harvey, J.C. Vadm

Haynes, R.S. Mr.

Herr, R. Dr.

Hogue, R.D. Mr.

Honecker, M.W. Mr.

Howard, J.S. Mr.

James, J.H. Mr.

Junker, B.R. Dr.

Karle, I. Dr.

Kamlich, R.S. Ltgen

Kaskin, J.D. Mr.

Kleintop, M.U. Ms.

Krasik, S.A. Ms.

Kunesh, N.J. Mr.

La Raia, J.H. Mr.

Lake, R. Bgen

Laux, T.E. Mr.

Lawrence, J. Dr.

Leach, R.A. Mr.

Ledvina, T.N. Mr.

Leggieri, S.R. Ms.

Leikach, K. Mr.

Lewis, R.D. Ms.

Loftus, J.V. Ms.

Lowell, P.M. Mr.

Lucchino, C. Ms.

Magnus, R. Ltgen

Marshall, J.B. Mr.

Masciarelli, J.R. Mr.

Mccormack, Jr., D.F. Mr.

Mccoy, K.M. Rdml

Mccurdy, J. Mr.

Mcgrath, M.F. Mr.

Mcguire, M.M. Ms.

Mclaughlin, P.M. Mr.

Mcnair, J.W. Mr.

Meadows, L.J. Ms.

Meeks, Jr., A.W. Dr.

Meng, J.C. Dr.

Molzahn, W.R. Mr.

Montgomery, J.A. Dr.

Muth, C.C. Ms.

Navas, Jr., W.A., The Honorable

Ney, P.C. Mr.

O'neil, S. Mr.

Penn, B.J., The Honorable

Persons, B.J. Mr.

Plunkett, B.J. Mr.

Pic, J.E. Mr.

Raps, S.P. Ms.

Reeves, C.R. Mr.

Rhodes, M.L. Mr.

Roark, Jr., J.E. Mr.

Rosenthal, R.J. Mr.

Ryzewic, W.H. Mr.

Sandel, E.A. Ms.

Schaefer, J.C. Mr.

Schregardus, D.R. Mr.

Shephard, M.R. Ms.

Simon, E.A. Mr.

Skinner, W. Rdml

Smith, R.F. Mr.

Smith, R.M. Mr.

Solhan, G. Mr.

Somoroff, A.R. Dr.

Sorenson, D. Capt

Steffee, D.P. Mr.

Stiller, A.F. Ms.

Summerall, W. Mr.

Tamburrino, P.M. Mr.

Tesch, T.G. Mr.

Thackrah, J. Mr.

Timme, W.G. Rdml

Townsend, D.K. Ms.

Trautman, S.J. Mr.

Ward, J.D. Mr.

Weyman, A.S. Mr.

Whittemore, A. Ms.

Wood, B.H. Mr.

Wieringa, J. Rdml

Wright Jr., J.W. Dr.

FOR FURTHER INFORMATION CONTACT: Ms. Nancy Palmer, Office of Civilian Human Resources, telephone 202-685-6665.

Dated: September 12, 2006.
M.A. Harvison,
Lieutenant Commander, Judge Advocate General's Corps, U.S. Navy, Federal Register Liaison Officer.

[FR Doc. E6-15506 Filed 9-18-06; 8:45 am]

BILLING CODE 3810-FF-P